DEPARTMENT OF COMMERCE

Patent and Trademark Office

Patents External Quality Survey

ACTION: Proposed collection; comment request.

SUMMARY: The United States Patent and Trademark Office (USPTO), as required by the Paperwork Reduction Act of 1995, invites comments on a proposed extension of an existing information collection.

DATES: Written comments must be submitted on or before April 2, 2019.

ADDRESSES: You may submit comments by any of the following methods:

• Email: InformationCollection@uspto.gov. Include `0651-0057 comment' in the subject line of the message.

• Federal Rulemaking Portal: http://www.regulations.gov.

• Mail: Marcie Lovett, Director, Records and Information Governance Division, Office of the Chief Administrative Officer, United States Patent and Trademark Office, P.O. Box 1450, Alexandria, VA 22313-1450.

FOR FURTHER INFORMATION CONTACT: Requests for additional information should be directed to David Fitzpatrick, Management Analyst, Office of Patent Quality Assurance, United States Patent and Trademark Office, P.O. Box 1450, Alexandria, VA 22313-1450; by telephone at 571-272-0525; or by email to David.Fitzpatrick@USPTO.GOV, with “0651-0057 comment” in the subject line. Additional information about this collection is also available at http://www.reginfo.gov under “Information Collection Review.”

SUPPLEMENTARY INFORMATION:

I. Abstract

The USPTO developed the Patents External Quality Survey in 2006 as part of its quality improvement efforts. This survey gauges customer satisfaction with respect to examination quality. It uses a longitudinal, rotating panel design to assess changes in customer perceptions, identify areas for improvement, and pinpoint key areas for additional examiner training. Participants of this survey include patent agents, attorneys, and other individuals from large domestic corporations (including those with 500+ employees), small and medium-size businesses, and universities and other non-profit research organizations. The USPTO also plans to survey independent inventors. The USPTO does not survey foreign entities.

From the Patent Application and Location Management (PALM) database, the USPTO draws a random sample of firms and entities that have filed more than 6 patent applications in a 12-month period. These firms and entities typically represent 95% of total domestic patent applications filed over the same period. The Patents External Quality Survey uses a rotating panel design in order to measure changes in the quality of USPTO's work over time. Customers participate in two consecutive data collection periods (waves) before rotating out of the panel. Each wave is conducted over a two month period. One wave occurs during the months of January and February and the other wave occurs during July and August. The rotating panel design means that for each wave, 50 percent of the panel have participated in a prior wave and 50 percent are being surveyed for the first time. At the next panel rotation, the 50 percent of customers who have participated in two consecutive waves will be dropped, and the panel will be refreshed.

Respondents receive the Patents External Quality Survey by mail and can respond either by mail or electronically on the USPTO website. A survey packet containing the questionnaire, a separate cover letter prepared by the Deputy Commissioner for Patent Quality, a postage-paid, pre-addressed return envelope, and instructions for completing the survey electronically are mailed to all respondents. A pre-notification letter, reminder/thank you postcards, and telephone calls are used to encourage a response.

This is a voluntary survey and all responses remain confidential. The collected data is not linked to the respondent, and contact information that is used for sampling purposes is maintained in a separate file from the quantitative data. Respondents are not required to provide any identifying information such as their name, address, or Social Security Number. Instead, in order to access and complete the online survey, respondents must use the username, password, and survey ID number provided by the USPTO.

II. Method of Collection

Electronically via email; by postal mail, facsimile, or hand delivery in paper form.

III. Data

OMB Number: 0651-0057.

IC Instruments and Forms: No forms.

Type of Review: Extension of an existing information collection.

Affected Public: Individuals or households; businesses or other for-profits; and non-profit institutions.

Estimated Number of Respondents: 2,500 responses per year.

Estimated Time per Response: The USPTO estimates that it will take the public 10 minutes (.17 hours) to respond to the survey, including the time to gather the necessary information along with completing and submitting the survey. The time per response, estimated annual responses, and estimated annual hour burden associated with each instrument in this collection are shown in the table below.

Estimated Total Annual Respondent Burden Hours: 416.67 hours.

Estimated Total Annual Respondent (Hourly) Cost Burden: $182,501.46. The USPTO expects that attorneys will complete these applications. The professional hourly rate for attorneys is $438. The rate is established by estimates in the 2017 Report on the Economic Survey, published by the Committee on Economics of Legal Practice of the American Intellectual Property Law Association. Using this hourly rate, the USPTO estimates that the total respondent cost burden for this collection is $182,501.46 per year.

IC No. | Item | Hours | Responses (yr) | Burden (hrs/yr) | Rate ($/hr) | Total cost
|  | (a) | (b) | (c) = (a) × (b) | (d) | (e) = (c) × (d)
1 | Patents External Quality Survey | 0.17 | 325 | 54.17 | $438.00 | $23,726.46
2 | Electronic Patents External Quality Survey | 0.17 | 2,175 | 362.50 | 438.00 | 158,775.00
Total |  |  | 2,500 | 416.67 |  | 182,501.46

Estimated Total Annual (Non-hour) Respondent Cost Burden: $0. There are no annual (non-hour) costs associated with this information collection. Respondents do not need to submit filing fees with these surveys. The USPTO covers the costs of all survey materials and provides postage-paid, pre-addressed return envelopes for the completed mail surveys so there are no postage costs associated with this information collection.

IV. Request for Comments

Comments are invited on:

(a) Whether the proposed collection of information is necessary for the proper performance of the functions of the agency, including whether the information shall have practical utility;

(b) the accuracy of the agency's estimate of the burden (including hours and cost) of the proposed collection of information;

(c) ways to enhance the quality, utility, and clarity of the information to be collected; and

(d) ways to minimize the burden of the collection of information on respondents, e.g., the use of automated collection techniques or other forms of information technology.

Comments submitted in response to this notice will be summarized or included in the request for OMB approval of this information collection; they also will become a matter of public record.

Marcie Lovett,
Director, Records and Information Governance Division, Office of the Chief Administrative Officer, USPTO.

[FR Doc. 2019-00611 Filed 1-31-19; 8:45 am]

BILLING CODE 3510-16-P